DEPARTMENT OF ENERGY

Idaho High-Level Waste and Facilities Disposition Draft Environmental Impact Statement

AGENCY: U.S. Department of Energy.

ACTION: Extension of Comment Period and Additional Public Hearing.

SUMMARY: In response to the public's request, the Department of Energy (DOE) announces the extension of the public comment period for the Idaho High-Level Waste and Facilities Disposition Draft Environmental Impact Statement (EIS) to April 19, 2000, an additional 30 days. This will result in a comment period totaling 90 days. DOE also announces that an additional public hearing has been added in Fort Hall, Idaho. This new hearing has been publicized in the local media.

DATES: The public is invited to submit written and oral comments at the public hearings shown below. The hearing in Fort Hall, Idaho will be held at the Fort Hall Tribal Business Center on March 2, 2000, at 6:00 p.m. The location of the Boise, Idaho, meeting has been changed to the Doubletree Riverside, 2900 Chinden Blvd., Boise, Idaho 83714. Meetings will include overview presentations, a question and answer session, and an oral comment session. To schedule a time to submit oral comments during the hearings, please call 1-888-918-5100. Persons wishing to provide oral comments who have not registered in advance may register at the hearings.

Schedule of Public Hearings
Cities | Dates | Meeting times | Meeting locations
Idaho Falls, ID | Monday, February 7, 2000 | 7 p.m. | Shilo Inn.
Pocatello, ID | Tuesday, February 8, 2000 | 6 p.m. | Idaho State University.
Jackson, WY | Wednesday, February 9, 2000 | 6 p.m. | Snow King Lodge.
Twin Falls, ID | Tuesday, February 15, 2000 | 6 p.m. | College of Southern Idaho, Taylor Bldg.
Boise, ID | Thursday, February 17, 2000 | 6 p.m. | Doubletree Riverside.
Portland, OR | Tuesday, February 22, 2000 | 6 p.m. | Doubletree Lloyd Center.
Pasco, WA | Thursday, February 24, 2000 | 6 p.m. | Doubletree Pasco.
Fort Hall, ID | Thursday, March 2, 2000 | 6 p.m. | Tribal Business Center.
* There will be a 1-hour open house prior to the start of each meeting.

ADDRESSES: Other options for submitting comments on the Draft EIS are as follows:

• Comments may be mailed to: Thomas L. Wichmann, U.S. Department of Energy, Idaho Operations Office, 850 Energy Drive, MS 1108, Idaho Falls, Idaho 83401-1563, Attn: EIS Public Comment.

• Comments may be transmitted by facsimile to: 1-208-526-1184.

• Comments may be submitted over the Internet at: http://www.jason.com/hlwfdeis.

DOE will consider all comments transmitted or postmarked by April 19, 2000. Comments submitted after this date will be considered to the extent practicable.

FOR FURTHER INFORMATION CONTACT: Thomas L. Wichmann, U.S. Department of Energy, Idaho Operations Office, at (208) 526-0535; or Ann Dold, State of Idaho Department of Environmental Quality, at (208) 528-2600.

SUPPLEMENTARY INFORMATION:

Background

On January 21, 2000, the DOE published a Notice of Availability (65 FR 3432) of its Idaho High-level Waste and Facilities Disposition Draft Environmental Impact Statement and announced a 60-day public comment period ending March 20, 2000. Copies of the Draft EIS have been provided to Federal, state, tribal, and local government agencies and other interested parties. The Draft EIS is available on the Internet via the DOE National Environmental Policy Act website at http://tis.eh.doe.gov/nepa/docs/docs.htm. In addition, the Draft EIS is available at 20 public reading rooms across the country and may be requested by calling 1-888-918-5100.

References used in the preparation of the Draft EIS are available for review at the EIS Project Office at DOE Idaho, 785 DOE Place, Idaho Falls, Idaho.

DOE is extending the public comment period for the Draft EIS to April 19, 2000, an additional 30 days. This will result in a comment period totaling 90 days. At the Shoshone-Bannock Tribe's request, DOE also is adding a public hearing at Fort Hall, Idaho on March 2, 2000, which has been publicized in the local media.

Mark W. Frei,
Deputy Assistant Secretary for Project Completion, Environmental Management.

[FR Doc. 00-4345 Filed 2-23-00; 8:45 am]

BILLING CODE 6450-01-P